DEPARTMENT OF ENERGY

Federal Energy Regulatory Commission

[Project No. 2206-082]

Duke Energy Progress, LLC; Notice of Application Accepted for Filing and Soliciting Comments, Motions To Intervene, and Protests

Take notice that the following hydroelectric application has been filed with the Commission and is available for public inspection.

a. Type of Application: Non-capacity amendment of license.

b. Project No.: 2206-082.

c. Date Filed: November 20, 2018.

d. Applicant: Duke Energy Progress, LLC.

e. Name of Project: Yadkin Pee-Dee Hydroelectric Project.

f. Location: The project is located on the Yadkin and Pee-Dee rivers in Anson, Montgomery, Richmond, and Stanly counties, North Carolina.

g. Filed Pursuant to: Federal Power Act, 16 U.S.C. 791 (a)-825(r).

h. Applicant Contact: Mr. Jeffery G. Lineberger, P.E., Director, Water Strategy and Hydro Licensing, 526 South Church Street, Mail Code EC12Y, Charlotte, NC, (704) 382-0293.

i. FERC Contact: Steven Sachs, (202) 502-8666, Steven.Sachs@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2206-082.

k. Description of Request: In conjunction with necessary spillway stabilization work, the applicant intends to replace the existing wooden flashboards at the Blewett Falls development with a pneumatic crest gate system. The proposed crest gate would consist of 9 sections of various height, but would have the same maximum elevation as the existing flashboards. The applicant also proposes to construct a 21-foot-wide, 24-foot-long concrete control building near the spillway as part of the crest gate system. The applicant intends to install the system beginning in November 2020, and complete construction in November 2021. Additionally, the applicant proposes changes to the conceptual designs for fish passage structure referenced in U.S. Fish and Wildlife Service's fishway prescriptions, which would provide downstream American Shad and upstream American eel passage at the Blewett Falls dam. The applicant now proposes to operate three sections of the pneumatic crest gate system for downstream shad passage, and to use the existing pool and weir fish ladder for upstream eel passage.

l. Locations of the Applications: A copy of the application is available for inspection and reproduction at the Commission's Public Reference Room, located at 888 First Street, NE, Room 2A, Washington, DC 20426, or by calling (202) 502-8371. The filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the temporary variance request. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 11, 2018.
Kimberly D. Bose,
Secretary.

[FR Doc. 2018-27293 Filed 12-17-18; 8:45 am]

BILLING CODE 6717-01-P